DEPARTMENT OF THE INTERIOR

Fish and Wildlife Service

[FWS-R8-R-2009-N0063;1261-0000-80230-W2]

Cullinan Ranch Unit Restoration Project, San Pablo Bay National Wildlife Refuge, Solano County, CA

AGENCY: Fish and Wildlife Service, Interior.

ACTION: Notice of availability; abbreviated final environmental impact statement and environmental impact report.

SUMMARY: We, the U.S. Fish and Wildlife Service (Service) and the California Department of Fish and Game (CDFG) announce that the abbreviated final environmental impact statement/environmental impact report (EIS/EIR) for the Cullinan Ranch Restoration Project is now available. The abbreviated final EIS/EIR, which we prepared and now announce in accordance with the National Environmental Policy Act of 1969 (NEPA), describes the restoration plan for 1,500 acres (ac) of former hayfield farmland in the San Pablo Bay. The abbreviated final EIS/EIR responds to all comments we received on the draft document. This restoration project would combine tidal salt marsh habitat for endangered species, waterfowl, waterbirds, and fish, as well as public access features to increase accessibility to wildlife resource values in the San Pablo Bay, while minimizing project-induced flood impacts to Highway 37.

ADDRESSES: The abbreviated final EIS/EIR is available at the following locations:

• Refuge Headquarters Office, San Pablo Bay National Wildlife Refuge, 2100 Highway 37, Petaluma, CA 94954; (707) 769-4200 (telephone).

• San Francisco Bay National Wildlife Refuge Complex, 9500 Thornton Avenue, Newark, CA 94560; (510) 792-0222 (telephone).

• John F. Kennedy Public Library, 505 Santa Clara, Vallejo, CA 94590.

• Internet: http://www.fws.gov/cno/refuges/cullinan/index.cfm.

FOR FURTHER INFORMATION CONTACT: Christy Smith, Refuge Manager, San Pablo Bay NWR, (707) 769-4200 (phone), christy_smith@fws.gov (e-mail); or Louis Terrazas, Wildlife Refuge Specialist, San Pablo Bay NWR, (707) 769-4200 (phone), louis_terrazas@fws.gov (e-mail).

SUPPLEMENTARY INFORMATION:

Location

Located within the existing Refuge boundary, the Cullinan Ranch Unit is bordered by the South Slough and Dutchman Slough to the north and State Route 37 to the south. California Department of Fish and Game Pond 1 borders Cullinan Ranch to the west. Guadalcanal Village Wetlands (Guadalcanal), which is owned by the State of California and is currently being restored to tidal marsh, borders Cullinan Ranch to the east.

Background

The Cullinan Ranch restoration project would restore approximately 1,500 acres of diked baylands to historic tidal conditions by reintroducing tidal flow into the project area. This area, Cullinan Ranch, is located in an area of the Napa River Delta that was historically defined by a network of meandering sloughs and extensive estuarine tidal marshes. Reintroduction of tidal flow will restore vital salt marsh habitat for endangered species, including the salt marsh harvest mouse (Reithrodontomys raviventris) and the California clapper rail (Rallus longirostris obsoletus), as well as provide foraging and roosting habitat for fish, migratory waterfowl and waterbirds.

The proposed restoration is based on the concept that reintroduction of tidal waters will naturally develop saltwater marsh habitat conditions. The existing perimeter levee currently prevents tidal flows into the area, and, as a result, the land has subsided several feet in elevation and becomes inundated with fresh water during the rainy season. Once restored, twice-daily tidal flows would carry and deposit sediment, eventually establishing marsh plain elevations sufficient to support tidal marsh vegetation. As tidal waters enter and exit the site, tidal channels would develop or re-establish from previous channels. Continued tidal action would maintain an active exchange of water, sediment, and nutrients between the marsh habitat and the bay, further enhancing the value of the habitat for plants and wildlife.

In keeping with one of the purposes of the Refuge, “to conserve fish, wildlife, or plants which are listed as endangered species or threatened species,” the Cullinan Ranch restoration project would restore historic salt marsh habitat for the benefit of threatened and endangered species as well as many other estuarine-dependent species.

Because some of the proposed project area includes State lands, we prepared the DEIS/EIR to satisfy the requirements of both NEPA and the California Environmental Quality Act (CEQA). The California Department of Fish and Game is the CEQA lead agency for this project.

Public Review

The formal public comment period for the draft EIS/EIR opened on May 2, 2008, and closed on June 17, 2008, although we received several comments during the 2 months following the comment period close. We announced the availability of the draft document by several methods, including press releases and public notice, including a notice in the Federal Register (73 FR 24302, May 2, 2008). The draft EIS/EIR identified and evaluated three alternatives for restoration. We received seven comment letters on the draft EIS/EIR. No comments received from interested individuals, groups, or agencies required us or CDFG to add new alternatives, significantly alter existing alternatives, or make changes to the impact analysis of the effect of any alternative. Thus, we were able to use an abbreviated format to fully document all our responses to comments in our final EIS/EIR, in compliance with the Council on Environmental Quality implementing regulations (40 CFR 1503.4 [c]) for NEPA.

Alternatives We Considered

No-Action Alternative

Under the No-Action Alternative, the lead agencies would take no action to restore tidal influence to the site; however, continued maintenance of the Dutchman and South Slough levees would occur. Under this alternative, because the lead agencies would be required to maintain the northern levee along Dutchman Slough in perpetuity, maintenance activities would likely increase as the levees age and as scour increases in response to activities undertaken by the Napa Sonoma Restoration Project. Under the No-Action Alternative, the components of the Proposed Action would not be implemented.

Preferred Restoration Alternative

The Preferred Restoration Alternative would restore the entire 1,500-ac Cullinan Ranch Site with implementation of the following project components:

• Component 1: Construct boardwalk to provide access to existing electrical towers.

• Component 2: If needed, drainage ditches would be blocked to promote redevelopment of natural sloughs.

• Component 3: Improve the DFG Pond 1 levee and install water control structures.

• Component 4: Protect Highway 37 from project-induced flooding and erosion, through levee construction.

• Component 5: Construct public access areas.

• Component 6: Breach the levees along Dutchman and South Sloughs and Guadalcanal Village.

• Component 7: Implement long-term monitoring.

Partial Restoration Alternative

The Partial Restoration Alternative would restore 300 ac of the Cullinan Ranch Site. The Partial Restoration Alternative was developed in order to limit potential impacts to the hydrology of Dutchman Slough. While it would meet the purpose and need of the project, a smaller overall area within Cullinan Ranch would be restored, and connectivity with other adjacent restoration projects would be limited.

The Partial Restoration Alternative would include implementation of the following project components:

• Component 1: If needed, drainage ditches would be blocked to promote redevelopment of natural Sloughs.

• Component 2: Construct internal levee.

• Component 3: Protect Highway 37 from project-induced flooding and erosion, through levee construction.

• Component 4: Breach the levee along Dutchman Slough.

• Component 5: Long-term monitoring.

The final EIS/EIR contains our responses to all comments received on the draft document. Following the release of the abbreviated final EIS/EIR, we will prepare a Record of Decision not sooner than 30 days after the Environmental Protection Agency has published its notice of filing of the document in the Federal Register. We anticipate that we will issue a Record of Decision in the summer of 2009.

We provide this notice under regulations implementing NEPA (40 CFR 1506.6).

Dated: May 13, 2009.
Stephen M. Dyer,
Acting Regional Director, Pacific Southwest Region.

[FR Doc. E9-11778 Filed 5-19-09; 8:45 am]

BILLING CODE 4310-55-P